DEPARTMENT OF ENERGY

Proposed Agency Information Collection

AGENCY: U.S. Department of Energy.

ACTION: Notice and request for Office of Management and Budget review and comment.

SUMMARY: The Department of Energy (DOE) has submitted to the Office of Management and Budget (OMB) for clearance a proposal for collection of information under the provisions of the Paperwork Reduction Act of 1995. The proposed collection will be used to assess the organizational climate and Safety Conscious Work Environment as part of the Office of Civilian Radioactive Waste Management's desire to continuously improve performance and comply with the employee protection requirements of 10 CFR 63.9, Employee protection, and Section 211 of the Energy Reorganization Act of 1974, as amended (42 U.S.C. 5851).

DATES: Comments regarding this collection must be received on or before September 5, 2008. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503; and to Mark Van Der Puy, U.S. Department of Energy, Office of Civilian Radioactive Waste Management, M/S 523 1551 Hillshire Drive, Suite A, Las Vegas, NV 89134.

FOR FURTHER INFORMATION CONTACT: Requests for additional information or copies of the information collection instrument and instructions should be directed to Mark Van Der Puy, U.S. Department of Energy, Office of Civilian Radioactive Waste Management, M/S 523 1551 Hillshire Drive, Suite A, Las Vegas, NV 89134. Or telephone at: 1-800-225-6972.

SUPPLEMENTARY INFORMATION: This information collection request contains: (1) OMB No. {“New”}; (2) Information Collection Request Title: Organization Climate and Safety Conscious Work Environment; (3) Type of Request: New collection; (4) Purpose: The proposed collection will be used to assess the organizational climate and Safety Conscious Work Environment as part of the Office of Civilian Radioactive Waste Management's (OCRWM) desire to continuously improve performance and comply with the employee protection requirements of 10 CFR 63.9, Employee protection, and Section 211 of the Energy Reorganization Act of 1974, as amended (42 U.S.C. 5851; (5) Type of Respondents: Federal, national laboratory, and other contractor employees supporting the OCRWM mission; (6) Estimated Number of Respondents: 1,750; and (7) Estimated Number of Burden Hours: 1,000.

Statutory Authority: 10 CFR 63.9, Employee protection, and Section 211 of the Energy Reorganization Act of 1974, as amended (42 U.S.C. 5851).

Issued in Washington, DC, on July 31, 2008.
Alan B. Brownstein,
Chief Operating Officer, Office of Civilian Radioactive Waste Management.

[FR Doc. E8-18037 Filed 8-5-08; 8:45 am]

BILLING CODE 6450-01-P